NATIONAL AERONAUTICS AND SPACE ADMINISTRATION

[Notice: 24-023]

Earth Science Advisory Committee; Meeting

AGENCY: National Aeronautics and Space Administration.

ACTION: Notice of meeting.

SUMMARY: In accordance with the Federal Advisory Committee Act, as amended, the National Aeronautics and Space Administration (NASA) announces a meeting of the Earth Science Advisory Committee (ESAC). This Committee functions in an advisory capacity to the Director, Earth Science Division, in the NASA Science Mission Directorate. The meeting will be held for the purpose of soliciting, from the scientific community and other persons, scientific and technical information relevant to program planning.

DATES: Tuesday, April 16, 2024, 8:30 a.m.-5 p.m., and Wednesday, April 17, 2024, 8:30 a.m.-3 p.m., eastern time.

ADDRESSES:

For April 16, 2024, Public attendance will be virtual only. See dial-in and Webex information below.

For April 17, 2024, NASA Headquarters, Room 8R40, 300 E Street SW, Washington, DC 20546.

FOR FURTHER INFORMATION CONTACT: KarShelia Kinard, Science Mission Directorate, NASA Headquarters, Washington, DC 20546, (202) 358-2355 or karshelia.kinard@nasa.gov.

SUPPLEMENTARY INFORMATION: The meeting will be open to the public only on April 17, 2024, up to the capacity of the meeting room. This meeting is also available telephonically and by WebEx for both days. You must use a touch-tone phone to participate in this meeting. Any interested person may call the USA toll number +1-415-527-5035 or USA toll (Chicago) number +1-312-500-3163, Access code: 2824 307 9953, for April 16, 2024, to participate in this meeting by telephone. The WebEx link is https://nasaenterprise.webex.com/nasaenterprise/j.php?MTID=me2e237d43d1df427dafffc99bfbb220e the meeting number is 2824 307 9953, webinar password: RKmHhJQ77$2 (75644577 from phones and video systems, case sensitive). For April 17, 2024, the USA toll number +1-415-527-5035 or USA toll (Chicago) number +1-312-500-3163, Access code: 2831 207 4547 to participate in this meeting by phone. The WebEx link is https://nasaenterprise.webex.com/nasaenterprise/j.php?MTID=me556af95d2a2050ffe666ab0261c53f7, the meeting number is 2831 207 4547, webinar password is cxAbnbt$838 (29226280 from phones and video systems, case sensitive). The agenda for the meeting includes the following topics:

—Earth Science Division Update

—Earth Science to Action (ES2A) Strategy

—Earth Science Division Program Elements Updates

—Earth Science Observatory (ESO) Integration

The agenda will be posted on the ESAC web page: https://science.nasa.gov/researchers/nac/science-advisory-committees/esac.

All attendees are required to register in NASA's Enterprise Visitor Access Management System prior to visit. You will be requested to comply with NASA Headquarters security requirements, including the presentation of a valid picture ID to Security before access to NASA Headquarters in addition to Foreign nationals attending this meeting will be required to provide a copy of their passport and visa in addition to providing the following information no less than 10 days prior to the meeting: full name; gender; date/place of birth; citizenship; passport information (number, country, telephone); visa information (number, type, expiration date); employer/affiliation information (name of institution, address, country, telephone); title/position of attendee. To expedite admittance, attendees with U.S. citizens and Permanent Residents (green card holders) may provide full name, citizenship and email address no less than 3 working days in advance by contacting Ms. KarShelia Kinard via email at karshelia.kinard@nasa.gov.

It is imperative that the meeting be held on this date to accommodate the scheduling priorities of the key participants.

Carol J. Hamilton,
Acting Advisory Committee Management Officer, National Aeronautics and Space Administration.

[FR Doc. 2024-06418 Filed 3-27-24; 8:45 am]

BILLING CODE 7510-13-P